ENVIRONMENTAL PROTECTION AGENCY

[FRL-7221-2]

Sole Source Aquifer Petition Denial

AGENCY: Environmental Protection Agency.

ACTION: Notice of sole source aquifer petition denial.

SUMMARY: The United States Environmental Protection Agency (EPA) today provides notice that it denies a petition to designate the La Cienega Valley Area Aquifer a Sole Source Aquifer. The aquifer is not eligible for designation because it is not the principal source of drinking water for the area covered by the petition.

ADDRESSES: The administrative record underlying today's decision is available for inspection and copying in the offices of EPA Region 6, 1445 Ross Avenue, Dallas, Texas 75202. Copies of the record or portions thereof may also be obtained by mailing a written request to Region 6 and payment of a reasonable fee for copying. EPA has also posted a fact sheet, summary of public comments and responses, and a decision support document on its website at http://www.epa.gov/earth1r6/6wq/swp/index.htm.

FOR FURTHER INFORMATION CONTACT: Clay Chesney, geologist, Source Water Protection Branch (6WQ-SG), EPA Region 6, 1445 Ross Ave., Dallas, TX 75202-2733, phone (214) 665-7128, chesney.claybourne@epa.gov.

SUPPLEMENTARY INFORMATION: Pursuant to section 1424(e) of the Safe Drinking Water Act (SDWA), 42 U.S.C. 300h-3(e), EPA may designate an aquifer a “sole source aquifer” if it serves as the sole or principal drinking water source for an area and contamination of that aquifer would create a significant hazard to public health. EPA may essentially “veto” financial assistance proposed by other Federal agencies for projects it finds may contaminate such a designated aquifer. To date, EPA has designated 72 sole source aquifers.

On October 25, 2000, EPA received a petition for sole source aquifer designation from the La Cienega Valley Citizens for Environmental Safeguards. The petition sought designation for the La Cienega Valley Area Aquifer, which covers approximately 320 square miles in north-central New Mexico including the City of Santa Fe. To show the aquifer was the primary source of drinking water for the area, the petitioner relied on documentation of water rights allocated to water users by the New Mexico State Engineer.

EPA published notice of the petition in the Albuquerque Journal and the Santa Fe New Mexican and requested comments thereon. It received a number of comments and carefully considered them in reaching today's decision. EPA also performed an independent review of the hydrology and water use in the area covered by the petition. The Agency concludes that the State Engineer's water rights allocations do not reflect actual usage of drinking water in the area covered by the petition and that approximately 61% of such drinking water is derived from sources other than the aquifer, i.e., the Santa Fe River and wells outside the area proposed for designation. EPA thus denies the petition.

Dated: May 20, 2002.
Gregg A. Cooke,
Regional Administrator, Region 6.

[FR Doc. 02-13696 Filed 5-30-02; 8:45 am]

BILLING CODE 6560-50-U